DEPARTMENT OF AGRICULTURE

Food and Nutrition Service

7 CFR Parts 211 and 235

RIN 0584-AD96

Fresh Fruit and Vegetable Program

Correction

In proposed rule document 2012-4181 appearing on pages 10981-10997 in the issue of February 24, 2012, make the following correction:

On page 10981, in the second column, after FOR FURTHER INFORMATION CONTACT, the contact information is corrected to read “Julie Brewer, Chief, Policy and Program Development Branch, Child Nutrition Division, Food and Nutrition Service, USDA, 3101 Park Center Drive, Room 634, Alexandria, Virginia 22302; telephone: (703) 305-2590.”

[FR Doc. C1-2012-4181 Filed 3-2-12; 8:45 am]

BILLING CODE 1505-01-D